ENVIRONMENTAL PROTECTION AGENCY

[ER-FRL-9035-1]

Environmental Impact Statements; Notice of Availability

Responsible Agency: Office of Federal Activities, General Information (202) 564-7146 or http://www2.epa.gov/nepa/.

Weekly receipt of Environmental Impact Statements (EISs)

Filed 08/28/2017 Through 09/01/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170172, Draft, FRA, VA, Southeast High Speed Rail Washington, DC to Richmond, VA, Comment Period Ends: 11/07/2017, Contact: John Winkle 202-493-6067.

EIS No. 20170173, Final Supplement, BLM, USFS, CO, Federal Coal Lease Modifications COC-1362 and COC-67232, Review Period Ends: 10/08/2017, Contact: Niccole Mortenson 406-329-3163.

EIS No. 20170174, Final, USFS, CO, La Garita Hills Restoration Project, Review Period Ends: 10/08/2017, Contact: Diana McGinn 719-852-6241.

Amended Notices

EIS No. 20170078, Draft, USFWS, NE., Issuance of an Incidental Take Permit and Implementation of a Habitat Conservation Plan for the R-Project Transmission Line, Comment Period Ends: 11/07/2017, Contact: Eliza Hines 308-382-6468 ext. 204. Revision to FR Notice Published 05/12/2017; The USFWS has reopened the Comment Period to end 11/07/2017.

Dated: September 5, 2017.
Kelly Knight,
Director, NEPA Compliance Division, Office of Federal Activities.

[FR Doc. 2017-19059 Filed 9-7-17; 8:45 am]

BILLING CODE 6560-50-P